DEPARTMENT OF HOUSING AND URBAN DEVELOPMENT

[Docket No. FR-5186-N-24]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to John Hicks, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Army: Ms. Veronica Rines, Headquarters, Department of the Army, Office of the Assistant Chief of Staff for Installation Management, 2511 Jefferson Davis Hwy, Arlington, VA 22202; (703) 601-2545; (These are not toll-free numbers).

Dated: June 5, 2008.
Mark R. Johnston,
Deputy Assistant Secretary for Special Needs.

Title V, Federal Surplus Property Program Federal Register Report for 06/13/2008

Suitable/Available Properties

Building

Alaska

Bldg. 105

Ft. Richardson

Ft. Richardson AK 99505

Landholding Agency: Army

Property Number: 21200820144

Status: Excess

Comments: 4992 sq. ft., most recent use—housing, off-site use only

Bldgs. 112, 113, 114, 115

Ft. Richardson

Ft. Richardson AK 99505

Landholding Agency: Army

Property Number: 21200820145

Status: Excess

Comments: 5184 sq. ft., most recent use—housing, off-site use only

Bldgs. 120, 129, 139, 148

Ft. Richardson

Ft. Richardson AK 99505

Landholding Agency: Army

Property Number: 21200820146

Status: Excess

Comments: 4766 sq. ft., most recent use—housing, off-site use only

Suitable/Available Properties

Building

Alaska

Bldg. 136

Ft. Richardson

Ft. Richardson AK 99505

Landholding Agency: Army

Property Number: 21200820147

Status: Excess

Comments: 2383 sq. ft., most recent use—housing, off-site use only

Bldgs. 366, 367, 371, 373

Ft. Richardson

Ft. Richardson AK 99505

Landholding Agency: Army

Property Number: 21200820148

Status: Excess

Comments: 13,743 sq. ft., most recent use—housing, off-site use only

Bldgs. 369, 372

Ft. Richardson

Ft. Richardson AK 99505

Landholding Agency: Army

Property Number: 21200820149

Status: Excess

Comments: 12,642 sq. ft., most recent use—housing, off-site use only

Bldgs. 392, 394

Ft. Richardson

Ft. Richardson AK 99505

Landholding Agency: Army

Property Number: 21200820150

Status: Excess

Comments: 18,496 sq. ft., most recent use—housing, off-site use only

Suitable/Available Properties

Building

Alaska

12 Bldgs.

Ft. Richardson

Ft. Richardson AK 99505

Landholding Agency: Army

Property Number: 21200820151

Status: Excess

Directions: 413, 414, 415, 416, 417, 418, 424, 425, 427, 428, 429, 431

Comments: 13,056 sq. ft., most recent use—housing, off-site use only

Maryland

Bldg. 00310

Aberdeen Proving Ground

Harford MD 21005

Landholding Agency: Army

Property Number: 21200820077

Status: Unutilized

Comments: 56516 sq. ft., most recent use—admin., off-site use only

Bldg. 00315

Aberdeen Proving Ground

Harford MD

Landholding Agency: Army

Property Number: 21200820078

Status: Unutilized

Comments: 74396 sq. ft., most recent use—mach shop, off-site use only

Suitable/Available Properties

Building

Maryland

Bldg. 00338

Aberdeen Proving Ground

Harford MD

Landholding Agency: Army

Property Number: 21200820079

Status: Unutilized

Comments: 45443 sq. ft., most recent use—gnd tran eqp, off-site use only

Bldg. 00360

Aberdeen Proving Ground

Harford MD

Landholding Agency: Army

Property Number: 21200820080

Status: Unutilized

Comments: 15287 sq. ft., most recent use—general inst., off-site use only

Bldg. 00445

Aberdeen Proving Ground

Harford MD

Landholding Agency: Army

Property Number: 21200820081

Status: Unutilized

Comments: 6367 sq. ft., most recent use—lab, off-site use only

Bldg. 00851

Aberdeen Proving Ground

Harford MD

Landholding Agency: Army

Property Number: 21200820082

Status: Unutilized

Comments: 694 sq. ft., most recent use—range bldg., off-site use only

Suitable/Available Properties

Building

Maryland

E1043

Aberdeen Proving Ground

Harford MD

Landholding Agency: Army

Property Number: 21200820083

Status: Unutilized

Comments: 5200 sq. ft., most recent use—lab, off-site use only

Bldg. 01089

Aberdeen Proving Ground

Harford MD

Landholding Agency: Army

Property Number: 21200820084

Status: Unutilized

Comments: 12369 sq. ft., most recent use—veh maint, off-site use only

Bldg. 01091

Aberdeen Proving Ground

Harford MD

Landholding Agency: Army

Property Number: 21200820085

Status: Unutilized

Comments: 2201 sq. ft., most recent use—storage, off-site use only

Bldg. E1386

Aberdeen Proving Ground

Harford MD

Landholding Agency: Army

Property Number: 21200820086

Status: Unutilized

Comments: 251 sq. ft., most recent use—eng/mnt, off-site use only

Suitable/Available Properties

Building

Maryland

5 Bldgs.

Aberdeen Proving Ground

Harford MD

Landholding Agency: Army

Property Number: 21200820087

Status: Unutilized

Directions: E1440, E1441, E1443, E1445, E1455

Comments: 112 sq. ft., most recent use—safety shelter, off-site use only

Bldgs. E1467, E1485

Aberdeen Proving Ground

Harford MD

Landholding Agency: Army

Property Number: 21200820088

Status: Unutilized

Comments: 160/800 sq. ft., most recent use—storage, off-site use only

Bldg. E1521

Aberdeen Proving Ground

Harford MD

Landholding Agency: Army

Property Number: 21200820090

Status: Unutilized

Comments: 1200 sq. ft., most recent use—overhead protection, off-site use only

Suitable/Available Properties

Building

Maryland

Bldg. E1570

Aberdeen Proving Ground

Harford MD

Landholding Agency: Army

Property Number: 21200820091

Status: Unutilized

Comments: 47027 sq. ft., most recent use—office, off-site use only

Bldg. E1572

Aberdeen Proving Ground

Harford MD

Landholding Agency: Army

Property Number: 21200820092

Status: Unutilized

Comments: 1402 sq. ft., most recent use—maint., off-site use only

4 Bldgs.

Aberdeen Proving Ground

Harford MD

Landholding Agency: Army

Property Number: 21200820093

Status: Unutilized

Directions: E1645, E1675, E1677, E1930

Comments: various sq. ft., most recent use—office, off-site use only

Suitable/Available Properties

Building

Maryland

Bldgs. E2160, E2184, E2196

Aberdeen Proving Ground

Harford MD

Landholding Agency: Army

Property Number: 21200820094

Status: Unutilized

Comments: 12440/13816 sq. ft., most recent use—storage, off-site use only

Bldg. E2174

Aberdeen Proving Ground

Harford MD

Landholding Agency: Army

Property Number: 21200820095

Status: Unutilized

Comments: 132 sq. ft., off-site use only

Bldgs. 02208, 02209

Aberdeen Proving Ground

Harford MD

Landholding Agency: Army

Property Number: 21200820096

Status: Unutilized

Comments: 11566/18085 sq. ft., most recent use—lodging, off-site use only

Bldg. 02353

Aberdeen Proving Ground

Harford MD

Landholding Agency: Army

Property Number: 21200820097

Status: Unutilized

Comments: 19252 sq. ft., most recent use—veh maint, off-site use only

Suitable/Available Properties

Building

Maryland

Bldgs. 02482, 02484

Aberdeen Proving Ground

Harford MD

Landholding Agency: Army

Property Number: 21200820098

Status: Unutilized

Comments: 8359 sq. ft., most recent use—gen purp, off-site use only

Bldg. 02483

Aberdeen Proving Ground

Harford MD

Landholding Agency: Army

Property Number: 21200820099

Status: Unutilized

Comments: 1360 sq. ft., most recent use—heat plt, off-site use only

Bldgs. 02504, 02505

Aberdeen Proving Ground

Harford MD

Landholding Agency: Army

Property Number: 21200820100

Status: Unutilized

Comments: 11720/17434 sq. ft., most recent use—lodging, off-site use only

Bldgs. 02831, E3488

Aberdeen Proving Ground

Harford MD

Landholding Agency: Army

Property Number: 21200820101

Status: Unutilized

Comments: 576/64 sq. ft., most recent use—access cnt fac, off-site use only

Suitable/Available Properties

Building

Maryland

Bldg. 2831A

Aberdeen Proving Ground

Harford MD

Landholding Agency: Army

Property Number: 21200820102

Status: Unutilized

Comments: 1200 sq. ft., most recent use—overhead protection, off-site use only

Bldg. 03320

Aberdeen Proving Ground

Harford MD

Landholding Agency: Army

Property Number: 21200820103

Status: Unutilized

Comments: 10600 sq. ft., most recent use—admin, off-site use only

Bldg. E3466

Aberdeen Proving Ground

Aberdeen MD

Landholding Agency: Army

Property Number: 21200820104

Status: Unutilized

Comments: 236 sq. ft., most recent use—protective barrier, off-site use only

Suitable/Available Properties

Building

Maryland

4 Bldgs.

Aberdeen Proving Ground

Harford MD

Landholding Agency: Army

Property Number: 21200820105

Status: Unutilized

Directions: E3510, E3570, E3640, E3832

Comments: various sq. ft., most recent use—lab, off-site use only

Bldg. E3544

Aberdeen Proving Ground

Harford MD

Landholding Agency: Army

Property Number: 21200820106

Status: Unutilized

Comments: 5400 sq. ft., most recent use—ind waste, off-site use only

Bldgs. E3561, 03751

Aberdeen Proving Ground

Harford MD

Landholding Agency: Army

Property Number: 21200820107

Status: Unutilized

Comments: 64/189 sq. ft., most recent use—access cnt fac, off-site use only

Suitable/Available Properties

Building

Maryland

Bldg. 03754

Aberdeen Proving Ground

Harford MD

Landholding Agency: Army

Property Number: 21200820108

Status: Unutilized

Comments: 324 sq. ft., most recent use—classroom, off-site use only

Bldg. 3823A

Aberdeen Proving Ground

Harford MD

Landholding Agency: Army

Property Number: 21200820109

Status: Unutilized

Comments: 113 sq. ft., most recent use—shed, off-site use only

Bldg. E3948

Aberdeen Proving Ground

Harford MD

Landholding Agency: Army

Property Number: 21200820110

Status: Unutilized

Comments: 3420 sq. ft., most recent use—emp chg fac, off-site use only

Suitable/Available Properties

Building

Maryland

4 Bldgs.

Aberdeen Proving Ground

Harford MD

Landholding Agency: Army

Property Number: 21200820111

Status: Unutilized

Directions: E5057, E5058, E5246, 05258

Comments: various sq. ft., most recent use—storage, off-site use only

Bldgs. E5106, 05256

Aberdeen Proving Ground

Harford MD

Landholding Agency: Army

Property Number: 21200820112

Status: Unutilized

Comments: 18621/8720 sq. ft., most recent use—office, off-site use only

Bldg. E5126

Aberdeen Proving Ground

Harford MD

Landholding Agency: Army

Property Number: 21200820113

Status: Unutilized

Comments: 17664 sq. ft., most recent use—heat plt, off-site use only

Suitable/Available Properties

Building

Maryland

Bldg. E5128

Aberdeen Proving Ground

Harford MD

Landholding Agency: Army

Property Number: 21200820114

Status: Unutilized

Comments: 3750 sq. ft., most recent use—substation, off-site use only

Bldg. E5188

Aberdeen Proving Ground

Harford MD

Landholding Agency: Army

Property Number: 21200820115

Status: Unutilized

Comments: 22790 sq. ft., most recent use—lab, off-site use only

Bldg. E5179

Aberdeen Proving Ground

Harford MD

Landholding Agency: Army

Property Number: 21200820116

Status: Unutilized

Comments: 47335 sq. ft., most recent use—info sys, off-site use only

Bldg. E5190

Aberdeen Proving Ground

Harford MD

Landholding Agency: Army

Property Number: 21200820117

Status: Unutilized

Comments: 874 sq. ft., most recent use—storage, off-site use only

Suitable/Available Properties

Building

Maryland

Bldg. 05223

Aberdeen Proving Ground

Harford MD

Landholding Agency: Army

Property Number: 21200820118

Status: Unutilized

Comments: 6854 sq. ft., most recent use—gen rep inst, off-site use only

Bldgs. 05259, 05260

Aberdeen Proving Ground

Harford MD

Landholding Agency: Army

Property Number: 21200820119

Status: Unutilized

Comments: 10067 sq. ft., most recent use—maint, off-site use only

Bldgs. 05263, 05264

Aberdeen Proving Ground

Harford MD

Landholding Agency: Army

Property Number: 21200820120

Status: Unutilized

Comments: 200 sq. ft., most recent use—org space, off-site use only

Suitable/Available Properties

Building

Maryland

5 Bldgs.

Aberdeen Proving Ground

Harford MD

Landholding Agency: Army

Property Number: 21200820121

Status: Unutilized

Directions: 05267, E5294, E5327, E5441, E5485

Comments: various sq. ft., most recent use—storage, off-site use only

Bldg. E5292

Aberdeen Proving Ground

Harford MD

Landholding Agency: Army

Property Number: 21200820122

Status: Unutilized

Comments: 1166 sq. ft., most recent use—comp rep inst, off-site use only

Bldg. E5380

Aberdeen Proving Ground

Harford MD

Landholding Agency: Army

Property Number: 21200820123

Status: Unutilized

Comments: 9176 sq. ft., most recent use—lab, off-site use only

Suitable/Available Properties

Building

Maryland

Bldg. E5452

Aberdeen Proving Ground

Harford MD

Landholding Agency: Army

Property Number: 21200820124

Status: Unutilized

Comments: 9623 sq. ft., off-site use only

Bldg. 05654

Aberdeen Proving Ground

Harford MD

Landholding Agency: Army

Property Number: 21200820125

Status: Unutilized

Comments: 38 sq. ft. most recent use—shed, off-site use only

Bldg. 05656

Aberdeen Proving Ground

Harford MD

Landholding Agency: Army

Property Number: 21200820126

Status: Unutilized

Comments: 2240 sq. ft., most recent use—overhead protection off-site use only

Suitable/Available Properties

Building

Maryland

5 Bldgs.

Aberdeen Proving Ground

Harford MD

Landholding Agency: Army

Property Number: 21200820127

Status: Unutilized

Directions: E5730, E5738, E5915, E5928, E6875

Comments: various sq. ft., most recent use—storage, off-site use only

Bldg. E5770

Aberdeen Proving Ground

Harford MD

Landholding Agency: Army

Property Number: 21200820128

Status: Unutilized

Comments: 174 sq. ft., most recent use—cent wash, off-site use only

Bldg. E5840

Aberdeen Proving Ground

Harford MD

Landholding Agency: Army

Property Number: 21200820129

Status: Unutilized

Comments: 14200 sq. ft., most recent use—lab, off-site use only

Suitable/Available Properties

Building

Maryland

Bldg. E5946

Aberdeen Proving Ground

Harford MD

Landholding Agency: Army

Property Number: 21200820130

Status: Unutilized

Comments: 2147 sq. ft., most recent use—igloo str, off-site use only

Bldg. E6872

Aberdeen Proving Ground

Harford MD

Landholding Agency: Army

Property Number: 21200820131

Status: Unutilized

Comments: 1380 sq. ft., most recent use—dispatch, off-site use only

Bldgs. E7331, E7332, E7333

Aberdeen Proving Ground

Harford MD

Landholding Agency: Army

Property Number: 21200820132

Status: Unutilized

Comments: most recent use—protective barrier, off-site use only

Bldg. E7821

Aberdeen Proving Ground

Harford MD

Landholding Agency: Army

Property Number: 21200820133

Status: Unutilized

Comments: 3500 sq. ft., most recent use—xmitter bldg, off-site use only

Suitable/Available Properties

Building

Oklahoma

Bldg. 05685

Fort Sill

Lawton OK 73501

Landholding Agency: Army

Property Number: 21200820152

Status: Unutilized

Comments: 24,072 sq. ft., concrete block/w brick, off-site use only

Texas

12 Bldgs.

Fort Hood

Ft. Hood TX 76544

Landholding Agency: Army

Property Number: 21200820153

Status: Excess

Directions: 56522, 56523, 56525, 56533, 56534, 56535, 56539, 56542, 56543, 56544, 56545, 56549

Comments: 600/607 sq. ft., presence of asbestos, most recent use—dining, off-site use only

10 Bldgs.

Fort Hood

Ft. Hood TX 76544

Landholding Agency: Army

Property Number: 21200820154

Status: Excess

Directions: 56622, 56623, 56624, 56625, 56629, 56632, 56633, 56634, 56635, 56639

Comments: 500/507 sq. ft., presence of asbestos, most recent use—dining, off-site use only

Unsuitable Properties

Building

Alaska

Bldg. RLNCL

Fort Richardson

Ft. Richardson AK

Landholding Agency: Army

Property Number: 21200820058

Status: Unutilized

Reasons: Extensive deterioration

Arizona

6 Bldgs.

Fort Huachuca

Cochise AZ 85613

Landholding Agency: Army

Property Number: 21200820061

Status: Excess

Directions: 12624, 14277, 15229, 15230, 15406, 15407

Reasons: Extensive deterioration

Arkansas

8 Bldgs.

Pine Bluff Arsenal

Jefferson AR 71602

Landholding Agency: Army

Property Number: 21200820059

Status: Unutilized

Directions: 12330, 12332, 12334, 12336, 12338, 12340, 12342, 12406

Reasons: Secured Area

Unsuitable Properties

Building

Arkansas

12 Bldgs.

Pine Bluff Arsenal

Jefferson AR 71602

Landholding Agency: Army

Property Number: 21200820060

Status: Unutilized

Directions: 13698, 13710, 13740 thru 13749

Reasons: Secured Area

California

Bldg. 00718

Fort Hunter Liggett

Monterey CA 93928

Landholding Agency: Army

Property Number: 21200820062

Status: Unutilized

Reasons: Extensive deterioration

Colorado

Bldg. 06284

Fort Carson

El Paso CO 80913

Landholding Agency: Army

Property Number: 21200820063

Status: Unutilized

Reasons: Secured Area

Unsuitable Properties

Building

Georgia

Bldgs. 4307, 9088, 9089

Fort Benning

Ft. Benning GA 31905

Landholding Agency: Army

Property Number: 21200820064

Status: Unutilized

Reasons: Secured Area

Bldg. 00816

Hunter Army Airfield

Savannah GA 31409

Landholding Agency: Army

Property Number: 21200820065

Status: Excess

Reasons: Extensive deterioration

Bldg. 00021

Fort Stewart

Hinesville GA 31314

Landholding Agency: Army

Property Number: 21200820066

Status: Excess

Reasons: Extensive deterioration

Unsuitable Properties

Building

Hawaii

Bldg. 00528

Fort Shafter

Honolulu HI 96858

Landholding Agency: Army

Property Number: 21200820067

Status: Unutilized

Reasons: Extensive deterioration

Indiana

4 Bldgs.

Newport Chemical Depot

Newport IN 47966

Landholding Agency: Army

Property Number: 21200820037

Status: Excess

Directions: 0726C, 707BB, 60581, 60582

Reasons: Secured Area; Within 2000 ft. of flammable or explosive material

Kansas

Bldg. 00688

Fort Leavenworth

Leavenworth KS 66027

Landholding Agency: Army

Property Number: 21200820068

Status: Unutilized

Reasons: Extensive deterioration

Unsuitable Properties

Building

Kentucky

Structure 000RR

Fort Campbell

Montgomery KY 42223

Landholding Agency: Army

Property Number: 21200820069

Status: Excess

Reasons: Secured Area

6 Bldgs.

Fort Knox

Ft. Knox KY 40121

Landholding Agency: Army

Property Number: 21200820070

Status: Unutilized

Directions: 42, 43, 68, 69, 71, 7712

Reasons: Extensive deterioration

Louisiana

9 Bldgs.

Fort Polk

Ft. Polk LA 71459

Landholding Agency: Army

Property Number: 21200820002

Status: Unutilized

Directions: 403, 404, 406, 407, 411, 412, 421, 422, 840

Reasons: Extensive deterioration

Unsuitable Properties

Building

Louisiana

10 Bldgs.

Fort Polk

Ft. Polk LA 71459

Landholding Agency: Army

Property Number: 21200820003

Status: Unutilized

Directions: 1726, 2504, 2530, 3346, 3412, 3706, 3712, 3716, 3717, 3718

Reasons: Extensive deterioration

17 Bldgs.

Fort Polk

Ft. Polk LA 71459

Landholding Agency: Army

Property Number: 21200820004

Status: Unutilized

Directions: 7104, 7105, 7127, 7128, 7130, 7131, 7132, 7134, 7135, 7137, 7139, 7140, 7144, 7151, 7152, 7154, 7155

Reasons: Extensive deterioration

13 Bldgs.

Fort Polk

Ft. Polk LA 71459

Landholding Agency: Army

Property Number: 21200820005

Status: Unutilized

Directions: 7161, 7162, 7164, 7166, 7167, 7168, 7170, 7174, 7177, 7178, 7179, 7180, 7189

Reasons: Extensive deterioration

Unsuitable Properties

Building

Louisiana

11 Bldgs.

Fort Polk

Ft. Polk LA 71459

Landholding Agency: Army

Property Number: 21200820006

Status: Unutilized

Directions: 7602, 7653, 7654, 8004, 8005, 8006, 8010, 8011, 8012, 8013, 8014, 8015

Reasons: Extensive deterioration

12 Bldgs.

Fort Polk

Ft. Polk LA 71459

Landholding Agency: Army

Property Number: 21200820007

Status: Unutilized

Directions: 8016, 8017, 8018, 8019, 8045, 8047, 8051, 8054, 8055, 8056, 8057, 8058

Reasons: Extensive deterioration

14 Bldgs.

Fort Polk

Ft. Polk LA 71459

Landholding Agency: Army

Property Number: 21200820008

Status: Unutilized

Directions: 8060, 8061, 8062, 8063, 8066, 8069, 8070, 8072, 8073, 8074, 8075, 8080, 8086, 8087

Reasons: Extensive deterioration

Unsuitable Properties

Building

Louisiana

10 Bldgs.

Fort Polk

Ft. Polk LA 71459

Landholding Agency: Army

Property Number: 21200820009

Status: Unutilized

Directions: 8235, 8241, 8241, 8242, 8243, 8244, 8245, 8246, 8248, 8249

Reasons: Extensive deterioration

12 Bldgs.

Fort Polk

Ft. Polk LA 71459

Landholding Agency: Army

Property Number: 21200820010

Status: Unutilized

Directions: 8250, 8251, 8252, 8254, 8255, 8256, 8258, 8259, 8260, 8261, 8262, 8263

Reasons: Extensive deterioration

9 Bldgs.

Fort Polk

Ft. Polk LA 71459

Landholding Agency: Army

Property Number: 21200820011

Status: Unutilized

Directions: 8401, 8405, 8424, 8427, 8428, 8429, 8430, 8432, 8443

Reasons: Extensive deterioration

Unsuitable Properties

Building

Louisiana

11 Bldgs.

Fort Polk

Ft. Polk LA 71459

Landholding Agency: Army

Property Number: 21200820012

Status: Unutilized

Directions: 8502, 8541, 8542, 8543, 8545, 8546, 8547, 8548, 8549, 9875, 10008

Reasons: Extensive deterioration

Maryland

6 Bldgs.

Aberdeen Proving Ground

Harford MD 21005

Landholding Agency: Army

Property Number: 21200820134

Status: Unutilized

Directions: 03070, 3070A E3163, E3642, E3646, E3871

Reasons: Contamination

Bldgs. E3641, E3728

Aberdeen Proving Ground

Harford MD 21005

Landholding Agency: Army

Property Number: 21200820135

Status: Unutilized

Reasons: Contamination

Unsuitable Properties

Building

Maryland

9 Bldgs.

Aberdeen Proving Ground

Harford MD

Landholding Agency: Army

Property Number: 21200820136

Status: Unutilized

Directions: 04019, 04020, 04021, 04022, 04023, 04031, 04035, 04036, 04038

Reasons: Contamination

10 Bldgs.

Aberdeen Proving Ground

Harford MD

Landholding Agency: Army

Property Number: 21200820137

Status: Unutilized

Directions: 05005, 05010, 05011, 05031, 05032, 05033, 05035, 05037, 05038, 05039

Reasons: Contamination

4 Bldgs.

Aberdeen Proving Ground

Harford MD

Landholding Agency: Army

Property Number: 21200820138

Status: Unutilized

Directions: 05042, 05045, 05047, 05048

Reasons: Contamination

Unsuitable Properties

Building

Maryland

11 Bldgs.

Aberdeen Proving Ground

Harford MD

Landholding Agency: Army

Property Number: 21200820139

Status: Unutilized

Directions: 05200, 05202, 05204, 05206, 05207, 05212, 05214, 05215, 05216, 05217, 05218

Reasons: Contamination

Bldgs. E5325, E5375

Aberdeen Proving Ground

Harford MD

Landholding Agency: Army

Property Number: 21200820140

Status: Unutilized

Reasons: Contamination

6 Bldgs.

Aberdeen Proving Ground

Harford MD

Landholding Agency: Army

Property Number: 21200820141

Status: Unutilized

Directions: E5440 E5476, E5481, E5487, E5489, E5760

Reasons: Contamination

Unsuitable Properties

Building

Maryland

Bldg. 0909A

Aberdeen Proving Ground

Harford MD

Landholding Agency: Army

Property Number: 21200820142

Status: Unutilized

Reasons: Contamination

New Jersey

15 Bldgs.

Fort Dix

Burlington NJ 08640

Landholding Agency: Army

Property Number: 21200820038

Status: Unutilized

Directions: S4429, S4430, S4431, S4432, S4433, T4434, T4436, T4438, P4441, P4442, P4443, P4444, T4445, S4446, S4447, P4451

Reasons: Extensive deterioration; Secured Area

8 Bldgs.

Fort Dix

Burlington NJ 08640

Landholding Agency: Army

Property Number: 21200820039

Status: Unutilized

Directions: S9751, S9752, S9753, S9754, P9755, S9756, S9757, S9758

Reasons: Extensive deterioration; Secured Area

Unsuitable Properties

Building

New Jersey

Bldgs. 00004, 00005, 00072

Picatinny Arsenal

Dover NJ 07806

Landholding Agency: Army

Property Number: 21200820040

Status: Unutilized

Reasons: Within 2000 ft. of flammable or explosive material; Secured Area

8 Bldgs.

Picatinny Arsenal

Dover NJ 07806

Landholding Agency: Army

Property Number: 21200820041

Status: Unutilized

Directions: 90T, 168, 302B, 308A, 324A, 452B, 506, 542A

Reasons: Within 2000 ft. of flammable or explosive material; Secured Area

8 Bldgs.

Picatinny Arsenal

Dover NJ 07806

Landholding Agency: Army

Property Number: 21200820042

Status: Unutilized

Directions: 617E, 641G, 642C, 642D, 656, 657, 671, 672

Reasons: Secured Area; Within 2000 ft. of flammable or explosive material

Unsuitable Properties

Building

New Jersey

4 Bldgs.

Picatinny Arsenal

Dover NJ 07806

Landholding Agency: Army

Property Number: 21200820043

Status: Unutilized

Directions: 717C, 727, 916, 937

Reasons: Secured Area; Within 2000 ft. of flammable or explosive material

5 Bldgs.

Picatinny Arsenal

Dover NJ 07806

Landholding Agency: Army

Property Number: 21200820044

Status: Unutilized

Directions: 1029W, 01061, 01094, 1210S, 1212S

Reasons: Within 2000 ft. of flammable or explosive material; Secured Area

4 Bldgs.

Picatinny Arsenal

Dover NJ 07806

Landholding Agency: Army

Property Number: 21200820045

Status: Unutilized

Directions: 1227A, 1229A, 01510, 01602

Reasons: Secured Area; Within 2000 ft. of flammable or explosive material

Unsuitable Properties

Building

New Jersey

5 Bldgs.

Picatinny Arsenal

Dover NJ 07806

Landholding Agency: Army

Property Number: 21200820046

Status: Unutilized

Directions: 3236, 3533, 3608, 3611, 3616

Reasons: Secured Area; Within 2000 ft. of flammable or explosive material

Bldgs. 3715, 3716

Picatinny Arsenal

Dover NJ 07806

Landholding Agency: Army

Property Number: 21200820047

Status: Unutilized

Reasons: Secured Area; Within 2000 ft. of flammable or explosive material

New Mexico

4 Bldgs.

White Sands Missile Range

Don Ana NM 88002

Landholding Agency: Army

Property Number: 21200820048

Status: Excess

Directions: 365, 368, 30724, 30728

Reasons: Extensive deterioration; Secured Area

Unsuitable Properties

Building

New York

Bldg. 813

U.S. Army Garrison

West Point NY 10996

Landholding Agency: Army

Property Number: 21200820049

Status: Underutilized

Reasons: Secured Area

6 Bldgs.

Fort Drum

Jefferson NY 13602

Landholding Agency: Army

Property Number: 21200820050

Status: Unutilized

Directions: 725, 742, 743, 746, 749, 752

Reasons: Secured Area; Extensive deterioration

Bldgs. 893, 895, 1800

Fort Drum

Jefferson NY 13602

Landholding Agency: Army

Property Number: 21200820051

Status: Unutilized

Reasons: Extensive deterioration; Secured Area

Unsuitable Properties

Building

New York

Bldgs. 1942, 1943, 1955, 1956

Fort Drum

Jefferson NY 13602

Landholding Agency: Army

Property Number: 21200820052

Status: Unutilized

Reasons: Extensive deterioration; Secured Area

Bldg. 00405

Fort Hamilton

Brooklyn NY 11252

Landholding Agency: Army

Property Number: 21200820071

Status: Excess

Reasons: Secured Area

North Carolina

6 Bldgs.

Fort Bragg

Cumberland NC 28310

Landholding Agency: Army

Property Number: 21200820053

Status: Unutilized

Directions: C3821, C3927, C4120, C4122, C4123, C4127

Reasons: Secured Area; Extensive deterioration

Unsuitable Properties

Building

North Carolina

7 Bldgs.

Fort Bragg

Cumberland NC 28310

Landholding Agency: Army

Property Number: 21200820054

Status: Unutilized

Directions: C4420, C4422, C4424, C4426, C4428, C4823, C4923

Reasons: Extensive deterioration; Secured Area

6 Bldgs.

Fort Bragg

Cumberland NC 28310

Landholding Agency: Army

Property Number: 21200820055

Status: Unutilized

Directions: C5029, C5129, C5225, C5227, C5322, C5324

Reasons: Secured Area; Extensive deterioration

5 Bldgs.

Fort Bragg

Cumberland NC 28310

Landholding Agency: Army

Property Number: 21200820056

Status: Unutilized

Directions: C8145, C8246, C8344, C8442, C8448

Reasons: Extensive deterioration; Secured Area

Unsuitable Properties

Building

North Carolina

6 Bldgs.

Fort Bragg

Cumberland NC 28310

Landholding Agency: Army

Property Number: 21200820057

Status: Unutilized

Directions: C8541, C8548, C8640, C8750, C8948, C9349

Reasons: Extensive deterioration; Secured Area

Ohio

Bldg. 300

Defense Supply Center

Columbus OH 43218

Landholding Agency: Army

Property Number: 21200820072

Status: Unutilized

Reasons: Secured Area

Oklahoma

6 Bldgs.

McAlester Army Ammo Plant

McAlester OK 74501

Landholding Agency: Army

Property Number: 21200820073

Status: Unutilized

Directions: 50B, 55, 56, 97, 207, 692

Reasons: Within 2000 ft. of flammable or explosive material; Secured Area

Unsuitable Properties

Building

Pennsylvania

7 Bldgs.

Tobyhanna Army Depot

Monroe PA 18466

Landholding Agency: Army

Property Number: 21200820074

Status: Unutilized

Directions: 22, CPR22, 1004, 1005, 1009, 1010, 1016

Reasons: Within 2000 ft. of flammable or explosive material; Secured Area; Extensive deterioration

Texas

9 Bldgs.

Fort Bliss

El Paso TX 79916

Landholding Agency: Army

Property Number: 21200820013

Status: Excess

Directions: 1610, 1680, 2322, 2323, 2332, 2333, 2343, 2353, 3191

Reasons: Secured Area

Unsuitable Properties

Building

Utah

Bldgs. 4535, 5126

Deseret Chemical Depot

Stockton UT

Landholding Agency: Army

Property Number: 21200820075

Status: Excess

Reasons: Secured Area

Virginia

Bldgs. 46, 45, 469

Fort Myer

Ft. Myer VA 22211

Landholding Agency: Army

Property Number: 21200820014

Status: Excess

Reasons: Secured Area; Extensive deterioration

Bldg. T2837

Fort Pickett

Blackstone VA 23824

Landholding Agency: Army

Property Number: 21200820015

Status: Unutilized

Reasons: Secured Area; Extensive deterioration

Unsuitable Properties

Building

Virginia

Bldgs. S1102, P1105, P1116

Fort Story

Ft. Story VA 23459

Landholding Agency: Army

Property Number: 21200820016

Status: Unutilized

Reasons: Secured Area

6 Bldgs.

Fort Lee

Prince George VA 23801

Landholding Agency: Army

Property Number: 21200820017

Status: Unutilized

Directions: 5000, 5100, 5101, 6112, 6113, 6114

Reasons: Extensive deterioration; Secured Area

5 Bldgs.

Fort Lee

Prince George VA 23801

Landholding Agency: Army

Property Number: 21200820018

Status: Unutilized

Directions: 7123, 7124, 7130, 7136, 7137

Reasons: Extensive deterioration; Secured Area

Unsuitable Properties

Building

Virginia

5 Bldgs.

Fort Lee

Prince George VA 23801

Landholding Agency: Army

Property Number: 21200820019

Status: Unutilized

Directions: 8025, 8026, 8031, 8042, 8407

Reasons: Extensive deterioration; Secured Area

10 Bldgs.

Fort Lee

Prince George VA 23801

Landholding Agency: Army

Property Number: 21200820020

Status: Unutilized

Directions: 8515, 8516, 8519, 8520, 8521, 8522, 8525, 8526,8533, 8534

Reasons: Extensive deterioration; Secured Area

Bldgs. 8601, 11104

Fort Lee

Prince George VA 23801

Landholding Agency: Army

Property Number: 21200820021

Status: Unutilized

Reasons: Extensive deterioration; Secured Area

Unsuitable Properties

Building

Virginia

5 Bldgs.

Fort Eustis

Ft. Eustis VA 23604

Landholding Agency: Army

Property Number: 21200820022

Status: Unutilized

Directions: S0652, S0658, P0922, T1026, R1704

Reasons: Extensive deterioration

Bldgs. P2300 thru P2317

Fort Eustis

Ft. Eustis VA 23604

Landholding Agency: Army

Property Number: 21200820023

Status: Unutilized

Reasons: Extensive deterioration

8 Bldgs.

Fort Eustis

Ft. Eustis VA 23604

Landholding Agency: Army

Property Number: 21200820024

Status: Unutilized

Directions: P2346, P2347, P2348, P2349, P2350, P2351, P2352, P2359

Reasons: Extensive deterioration

Unsuitable Properties

Building

Virginia

7 Bldgs.

Fort Eustis

Ft. Eustis VA 23604

Landholding Agency: Army

Property Number: 21200820025

Status: Unutilized

Directions: P2363, P2364, P2365, P2366, P2367, P2368, P2369

Reasons: Extensive deterioration

18 Bldgs.

Fort Eustis

Ft. Eustis VA 23604

Landholding Agency: Army

Property Number: 21200820026

Status: Unutilized

Directions: P2370, P2371, P2372, P2376, P2377, P2378, P2379, P2380, P2381, P2382, P2383, P2384, P2385, P2390, P2391, P2392, P2393, P2394

Reasons: Extensive deterioration

11 Bldgs.

Fort Eustis

Ft. Eustis VA 23604

Landholding Agency: Army

Property Number: 21200820027

Status: Unutilized

Directions: S2731, S2732, S2751, S2752, S2753, S2754, S2755, S2756, S2757, S2758, S2759

Reasons: Extensive deterioration

Unsuitable Properties

Building

Virginia

9 Bldgs.

Fort Eustis

Ft. Eustis VA 23604

Landholding Agency: Army

Property Number: 21200820028

Status: Unutilized

Directions: S2785, S2787, S2789, S2791, S2793, S2795, S2797, S2799, P2802

Reasons: Extensive deterioration

11 Bldgs.

Ft. A.P. Hill

Caroline VA 22427

Landholding Agency: Army

Property Number: 21200820029

Status: Unutilized

Directions: T0506, S0516, S0517, S0518, S0519, S0520, S0521, S0522, S0523, S0524, S0525

Reasons: Extensive deterioration; Secured Area

9 Bldgs.

Ft. A.P. Hill

Caroline VA 22427

Landholding Agency: Army

Property Number: 21200820030

Status: Unutilized

Directions: T0708, S0718, S0719, S0720, S0721, S0722, S0723, S0724, S0726

Reasons: Extensive deterioration; Secured Area

Unsuitable Properties

Building

Virginia

8 Bldgs.

Ft. A.P. Hill

Caroline VA 22427

Landholding Agency: Army

Property Number: 21200820031

Status: Unutilized

Directions: 0846A, 0854A, AS903, A0904, A0912, 00916, 00924, 00980

Reasons: Extensive deterioration; Secured Area

7 Bldgs.

Ft. A.P. Hill

Caroline VA 22427

Landholding Agency: Army

Property Number: 21200820032

Status: Unutilized

Directions: 01107, 01213, 01213, S1259, S1267, 01447, TPPAD

Reasons: Extensive deterioration; Secured Area

Unsuitable Properties

Building

Washington

Bldgs. U002A, 3102

Fort Lewis

Yakima WA 98901

Landholding Agency: Army

Property Number: 21200820076

Status: Unutilized

Reasons: Secured Area; Extensive deterioration

Wisconsin

6 Bldgs.

Fort McCoy

Monroe WI 54656

Landholding Agency: Army

Property Number: 21200820033

Status: Unutilized

Directions: 645, 647, 648, 845, 846, 847

Reasons: Extensive deterioration; Secured Area

Bldgs. 1665, 1666, 1667

Fort McCoy

Monroe WI 54656

Landholding Agency: Army

Property Number: 21200820034

Status: Unutilized

Reasons: Extensive deterioration; Secured Area

Unsuitable Properties

Building

Wisconsin

8 Bldgs.

Fort McCoy

Monroe WI 54656

Landholding Agency: Army

Property Number: 21200820035

Status: Unutilized

Directions: 2646, 2647, 2648, 2649, 2650, 2652, 2653, 2655

Reasons: Extensive deterioration; Secured Area

6 Bldgs.

Fort McCoy

Monroe WI 54656

Landholding Agency: Army

Property Number: 21200820036

Status: Unutilized

Directions: 2748, 2750, 2756, 2760, 2761, 2852

Reasons: Extensive deterioration; Secured Area

Unsuitable Properties

Land

Maryland

RNWYA

Aberdeen Proving Ground

Harford MD

Landholding Agency: Army

Property Number: 21200820143

Status: Unutilized

Reasons: Within airport runway clear zone

[FR Doc. E8-13163 Filed 6-12-08; 8:45 am]

BILLING CODE 4210-67-P